DEPARTMENT OF HEALTH AND HUMAN SERVICES

Centers for Disease Control and Prevention

Board of Scientific Counselors, National Center for Environmental Health/Agency for Toxic Substances and Disease Registry (BSC, NCEH/ATSDR)

In accordance with section 10(a)(2) of the Federal Advisory Committee Act (Pub. L. 92-463), CDC and NCEH/ATSDR announce the following meeting of the aforementioned committee:

Times and Dates: 8:30 a.m.-4 p.m., May 28, 2009. 8:30 a.m.-12:15 p.m., May 29, 2009.

Place: Centers for Disease Control and Prevention, 4770 Buford Highway, Atlanta, Georgia 30341.

Status: Open to the public, limited only by the space available. The meeting room accommodates approximately 75 people.

Purpose: The Secretary, Department of Health and Human Services (HHS) and by delegation, the Director, CDC and Administrator, ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work. The BSC, NCEH/ATSDR provides advice and guidance to the Secretary, HHS; the Director, CDC and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters To Be Discussed: The agenda items will include updates by the Director of NCEH/ATSDR on activities and events subsequent to the BSC's November, 2008 meeting; responses by the programs to previous BSC Program Peer Reviews (ATSDR Site Specific Activities; NCEH/ATSDR Preparedness and Emergency Response Programs; NCEH/ATSDR Internal Clearance and External Peer Review Policies and Procedures; overview of the 2009 National Environmental Public Health Conference; opportunities to expand the BSC involvement with the NCEH/ATSDR National Conversation on Public Health and Chemical Exposures; approach and planning for future BSC Program Peer Reviews; and an overview of the NCEH Division of Emergency and Environmental Health Services.

Agenda items are subject to change as priorities dictate.

Contact Person for More Information: Sandra Malcom, Committee Management Specialist, NCEH/ATSDR, 4770 Buford Highway, Mail Stop F-61, Chamblee, Georgia 30345; telephone 770/488-0575, fax 770/488-3377; e-mail: smalcom@cdc.gov. The deadline for notification of attendance is May 22, 2009.

The Director, Management Analysis and Services Office, has been delegated the authority to sign Federal Register notices pertaining to announcements of meetings and other committee management activities for both CDC and NCEH/ATSDR.

Dated: May 7, 2009.
Andre Tyler,
Acting Director, Management Analysis and Services Office, Centers for Disease Control and Prevention (CDC).

[FR Doc. E9-11127 Filed 5-12-09; 8:45 am]

BILLING CODE 4163-18-P